DEPARTMENT OF AGRICULTURE

Federal Crop Insurance Corporation

7 CFR Part 457

Common Crop Insurance Regulations; Forage Seeding Crop Provisions

AGENCY: Federal Crop Insurance Corporation, USDA.

ACTION: Final rule; correcting amendment.

SUMMARY: This document contains corrections to the final regulation which was published Wednesday, August 15, 2001 (66 FR 42729-42730). This document pertains to the Forage Seeding Crop Provisions for 2004 and subsequent crop years.

EFFECTIVE DATE: October 23, 2002.

FOR FURTHER INFORMATION CONTACT: Arden Routh, Risk Management Specialist, Product Development Division, Federal Crop Insurance Corporation, United States Department of Agriculture, 6501 Beacon Drive, Kansas City, MO, 64133, telephone (816) 926-7730.

SUPPLEMENTARY INFORMATION:

Background on Need for Correction

The final rule published on August 15, 2001, has a June 30 contract change date and a September 30 cancellation/sales closing date for South Dakota counties with both fall and spring seeded forage. The final planting date for fall seeded forage in these counties is September 1. Thus, that final rule allows producers to purchase crop insurance 30 days beyond the final planting date. In order to maintain the integrity and actuarial soundness of the crop insurance program, it is necessary that producers' decisions regarding their participation in the program occur before they have any information on imminent or actual damages to their crops. Accordingly, for South Dakota counties with both fall and spring seeded forage, the cancellation/sales closing date is being changed to July 31 and the contact change date is being changed to April 30.

List of Subjects in 7 CFR Part 457

Crop Insurance.

Accordingly, 7 CFR part 457 is corrected by making the following correcting amendment:

PART 457—COMMON CROP INSURANCE REGULATIONS

1. The authority citation for part 457 continues to read as follows:

Authority: 7 U.S.C. 1506(l), 1506(p).

§ 457.151 [Corrected]

2. Revise sections 4 and 5 of the crop provisions in § 457.151 to read as follows:

* * * * *

4. Contract Changes.

In accordance with section 4 of the Basic Provisions, the contract change date is November 30 preceding the cancellation date for counties with a March 15 cancellation date and April 30 preceding the cancellation date for all other counties.

5. Cancellation and Termination Dates.

In accordance with section 2 of the Basic Provisions, the cancellation and termination dates are:

State and county | Cancellation and termination dates
California, Nevada, New Hampshire, New York, Pennsylvania, South Dakota counties for which the Special Provisions designate both fall and spring final planting dates, and Vermont | July 31.
South Dakota counties for which the Special Provisions designate only a spring final planting date, and all other states | March 15.

* * * * *

Signed in Washington, DC, on October 16, 2002.
Ross J. Davidson, Jr.,
Manager, Federal Crop Insurance Corporation.

[FR Doc. 02-26924 Filed 10-22-02; 8:45 am]

BILLING CODE 3410-08-P